DEPARTMENT OF JUSTICE

Notice of Lodging of Proposed Consent Decree under the Clean Air Act

On August 7, 2013, the Department of Justice lodged a proposed Consent Decree with the United States District Court for the Western District of New York in the lawsuit entitled United States v. E.I. Dupont de Nemours 1:13-cv-00810-WMS.

The Consent Decree resolves the claims of the United States set forth in the complaint against E.I Dupont De Nemours and Company for violations of the Clean Air Act (“CAA”) 42 U.S.C. 7401 et seq., and the Emergency Planning and Community Right to Know Act (“EPCRA”) 42 U.S.C. 11001 et seq., in connection with its facility located in Tonawanda, New York. Under the Consent Decree, the settling defendant agrees to pay a civil penalty of $440,000. In addition, the settling defendant agrees to perform certain injunctive relief.

The publication of this notice opens a period for public comment on the Consent Decree. Comments should be addressed to the Assistant Attorney General, Environment and Natural Resources Division, and should refer to United States of America v. E.I. duPont de Nemours and Company. D.J. Ref. No. 90-5-2-1-09450. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury.

Susan M. Akers,
Assistant Section Chief, Environmental Enforcement Section, Environment and Natural Resources Division.

[FR Doc. 2013-19507 Filed 8-12-13; 8:45 am]

BILLING CODE 4410-15-P